DEPARTMENT OF AGRICULTURE

Public Listing of Additional Commercial Inventory Added as a Result of a Challenge Under the Federal Activities Inventory Reform Act of 1998 (Public Law 105-270) (“FAIR Act”)

AGENCY: Department of Agriculture, Office of the Chief Financial Officer.

ACTION: Notice of additional commercial inventory added as a result of a challenge.

SUMMARY: The “Federal Activities Inventory Reform Act of 1998” (Pub. L. 105-270) (“FAIR Act”) requires that agencies making changes to their inventory as a result of a challenge must make the change available to the public via the publication of a notice in the Federal Register

The Department of Agriculture, Office of the Chief Financial Officer hereby announces that additional commercial inventories are available to the public and are listed below: Departmental Administration (DA), Contact: George W. Aldaya, Washington, D.C. 20250, (202) 720-3937

Function code | FTE | State | Reason code | FY first appeared on FAIR list
T804—Architect and Engineering | 8 | DC | A | 1999
W826—System Design & Programming Services | 2 | DC | A | 1999
W999—Other ADP Functions | 2 | DC | A | 1999
W000A—ADP Management | 1 | DC | A | 1999
Grain Inspection, Packers & Stockyards Administration (GIPSA), Contact: Bob Soderstrom, Washington, D.C. 20250, (202) 720-0231.

Function code | FTE | State | Reason code | FY first appeared on FAIR list
A000C—ADP Support | 16 | DC | B | 1999
| 2 | GA | B | 1999
| 2 | IA | B | 1999
| 2 | CO | B | 1999
| 1 | LA | B | 1999
| 1 | TX | B | 1999
| 1 | OH | B | 1999
| 3 | MO | B | 1999

Richard M. Guyer,
FAIR Act Coordinator.

[FR Doc. 00-3264 Filed 2-10-00; 8:45 am]

BILLING CODE 3410-90-P